DEPARTMENT OF THE INTERIOR

National Park Service

[NPS-WASO-VRP-WS-22697; PPWOVPADW0, PPMPRLE1Y.LB0000 (177)]

Agency Information Collection Activities: OMB Control Number 1024-0022; Backcountry/Wilderness Use Permit

AGENCY: National Park Service, Interior.

ACTION: Notice; request for comments.

SUMMARY: We (National Park Service, NPS) have sent an Information Collection Request (ICR) to OMB for review and approval. We summarize the ICR below and describe the nature of the collection and the estimated burden and cost. This information collection is scheduled to expire on May 31, 2017. We may not conduct or sponsor and a person is not required to respond to a collection of information unless it displays a currently valid OMB control number. However, under OMB regulations, we may continue to conduct or sponsor this information collection while it is pending at OMB.

DATES: You must submit comments on or before June 26, 2017.

ADDRESSES: Send your comments and suggestions on this information collection to the Desk Officer for the Department of the Interior at OMB-OIRA at (202) 395-5806 (fax) or OIRA_Submission@omb.eop.gov (email). Please provide a copy of your comments to Tim Goddard, Information Collection Clearance Officer, National Park Service, 12201 Sunrise Valley Drive, MS-242, Reston, VA 20192 (mail); or tim_goddard@nps.gov (email). Please include “1024-0022” in the subject line of your comments. You may review the ICR online at http://www.reginfo.gov. Follow the instructions to review Department of the Interior collections under review by OMB.

FOR FURTHER INFORMATION CONTACT: To request additional information about this IC, contact Roger Semler, Chief, Wilderness Stewardship Division, Visitor & Resource Protection Directorate, U.S. Department of the Interior, Room 2462, 1849 C St. NW., Washington, DC 20240 (mail); or roger_semler@nps.gov (email). Please include “1024-0022” in the subject line.

SUPPLEMENTARY INFORMATION:

I. Abstract

In 1976, the NPS initiated a backcountry and wilderness use registration system in accordance with the regulations found at 36 CFR 1.5, 1.6 and 2.10. The objective of the registration system is to provide users access to backcountry and wilderness areas of national parks with continuing opportunities for solitude and primitive and unconfined recreation, while enhancing protection of natural and cultural resources and providing a means of disseminating public safety and outdoor ethics messages regarding backcountry/wilderness travel and camping. NPS backcountry/wilderness program managers, by designating access and travel routes and camping locations, can redistribute backcountry/wilderness users in response to closures implemented to prevent adverse impacts to natural and cultural resources and/or in response to public safety hazards related to high fire danger, flood, wind, water, snow or ice hazards, bear or other wildlife activity, or other situations that may temporarily close or restrict access to a portion of the backcountry/wilderness.

The NPS uses the registration system as a means of ensuring backcountry/wilderness users receive up-to-date information on outdoor ethics and park regulations which minimize social and resource impacts including, but not limited to, sanitation procedures, food storage, campfire use, campsite selection, as well as wildlife activity, trail conditions and weather forecasts to address concerns for visitor safety. Data collected through the registration process is also an important source of information for first responders in the event of an emergency requiring deployment of search and rescue and/or emergency medical personnel to backcountry/wilderness areas. The registration system also serves to document the spatial and temporal extent, distribution and demographics associated with backcountry/wilderness use and social considerations and perceptions of backcountry/wilderness visitors. All of this information serves as an important resource that informs backcountry and wilderness management and stewardship planning, decision making, and operations.

The Backcountry/Wilderness Use Permit is an extension of the NPS statutory authority responsibility to protect the park areas it administers and to manage the public use thereof (54 U.S.C. 100101, 100751, 3210102). NPS regulations codified in 36 CFR parts 1 through 7, 12 and 13 are designated to implement statutory mandates that provide for resource protection and pubic enjoyment. NPS Forms 10-404, “Backcountry/Wilderness Use Permit Application” and 10-404A, “Backcountry/Wilderness Use Permit Hangtag” are the primary forms used to provide access into NPS backcountry/wilderness areas including those areas that require a reservation and permit to enter where use limits are imposed in accordance with other NPS regulations. Such permitting enhances the ability to the NPS to educate users on potential hazards, search and rescue efforts, and resource protection.

II. Data

OMB Control Number: 1024-0022.

Expiration Date: May 31, 2017.

Title: Backcountry/Wilderness Use Permit (36 CFR 1.5, 1.6, and 2.10).

Service Form Numbers: NPS Forms 10-404, Backcountry/Wilderness Use Permit” and 10-404A, “Backcountry/Wilderness Use Permit Hangtag”.

Type of Request: Revision of a currently approved collection of information.

Description of Respondents: Individuals wishing to use backcountry and wilderness areas within units of the national park system.

Respondent's Obligation: Required to obtain or retain a benefit.

Frequency of Collection: On occasion.

Activity | Number of respondents | Number of annual responses | Completion time per response (minutes) | Total annual burden hours *
Form 10-404, Backcountry/Wilderness Use Application
Individuals | 172,928 | 172,928 | 8 | 23,057
Private Sector | 5,376 | 5,376 | 8 | 717
Government | 896 | 896 | 8 | 119
Form 10-404A, Backcountry/Wilderness Use Permit Hangtag
Individuals | 135,100 | 135,100 | 5 | 11,258
Private Sector | 4,200 | 4,200 | 5 | 350
Government | 700 | 700 | 5 | 58
Totals | 319,200 | 319,200 |  | 35,559
* Rounded.

Estimated Annual Nonhour Burden Cost: None.

III. Comments

On September 14, 2016, we published in the Federal Register (81 FR 63204) a Notice of our intent to request that OMB renew approval for this information collection. In that Notice, we solicited comments for 60 days, ending November 14, 2016. We received one (1) comment in response to that Notice:

Email from: Rob Windmiller (Received October 4, 2016)

“Ms. Baucum—I live near the Grand Canyon. It is about one hundred miles from my house to the back country permit office. The current system does not work for me because it requires a trip to the office to find out if there are available permits. That means the better part of the day driving and adding to traffic at the canyon just to find out if I can get one. Usually when I am looking for a permit it is for the North rim which is also a long drive South rim. I would be very happy if I could find out if there were available permits online and could get one, online. The current system causes extra traffic and keeps people out of the park who should be able to use it. Sincerely, Robert Windmiller”

NPS Response/Action Taken: [The National Park Service is in the process of establishing a service-wide online advance reservation system through the Recreation.gov program that would accommodate backcountry permit requests. In the meantime, Grand Canyon National Park offers the following options for obtaining a backcountry permit:

1. Fax request to the Backcountry Information Center, 928-638-2125.

NOTE: You can send a fax 24 hours a day, 7 days a week, 365 days a year—HOWEVER the first day of every month we receive many faxes and the number may be busy.

2. Mail request to Grand Canyon National Park, Permits Office, 1824 S. Thompson St., Suite 201, Flagstaff AZ, 86001.

3. Bring request to the Backcountry Information Center, located inside the park on both the South Rim and the North Rim. The South Rim Backcountry Information Center is open daily, year round, for walk-in visitors from 8 a.m. to noon and 1-5 p.m. Mountain Standard Time. The North Rim Backcountry Information Center (located in the administrative building) is open daily mid-May to mid-October for walk-in visitors from 8 a.m. to noon and 1-5 p.m. Mountain Standard Time.

Please note: Permit requests are not accepted by telephone or by email.

Thank you for your interest in National Park Service backcountry recreational opportunities. If you have additional questions regarding Grand Canyon National Park please consult their backcountry permit Web page at https://www.nps.gov/grca/planyourvisit/backcountry-permit.htm]

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Authority: The authorities for this action are the National Park Service Organic Act of 1916 (54 U.S.C. 100101 et seq.; Pub. L. 113-287) and the Paperwork Reduction Act of 1995 (44 U.S.C. 3501 et seq.).

Timothy Goddard,
Information Collection Clearance Officer, National Park Service.

[FR Doc. 2017-10832 Filed 5-25-17; 8:45 am]

BILLING CODE 4312-52-P